DEPARTMENT OF TRANSPORTATION

National Highway Traffic Safety Administration

[Docket No. NHTSA 2001-10258, Notice 1]

NovaBUS, Inc., Receipt of Application for Decision of Inconsequential Noncompliance

NovaBUS, Inc. (NovaBUS) of Roswell, New Mexico, manufactured a number of buses which were equipped with one of two types of optional lamp systems. Both of these lamp systems are wired to flash. Federal Motor Vehicle Safety Standard (FMVSS) No. 108, “Lamps, Reflective Devices, and Associated Equipment,” requires that all lamps, except those specified, be wired to be steady burning. NovaBUS has filed an appropriate report pursuant to 49 CFR part 573, “Defect and Noncompliance Reports.” It has also applied to be exempted from the notification and remedy requirements of 49 U.S.C. Chapter 301—“Motor Vehicle Safety” on the basis that the noncompliance is inconsequential to motor vehicle safety.

This notice of receipt of an application is published under 49 U.S.C. 30118 and 30120 and does not represent any agency decision or other exercise of judgment concerning the merits of the application.

In FMVSS No. 108, paragraph S5.5.10 requires that, other than turn signal lamps, hazard warning signal lamps, school bus warning lamps, and headlamps and side marker lamps wired to flash for signaling purposes, all other lamps shall be wired to be steady burning.

Between January 1994 and March 2001, Nova produced 742 buses with optional deceleration lamps that flash in response to the level of deceleration of the vehicle. These lamps are amber and are located on the rear center of the bus. Nova also produced 1,819 buses with “hoodlum” lamps that flash when a switch is activated by the driver. The purpose of these lamps is to provide an alert to the police or public that a dangerous situation is occurring on the bus and that the driver requires assistance. These lamps are green or amber and are located on the top front of the bus.

Nova supports its application for inconsequential noncompliance by stating the following:

The lights do not pose a safety risk to the bus, passengers, driver, or other vehicles on the roadway. They in no way interfere with the normal operation of the bus. Their size, location, color, and flashing pattern make it impossible to confuse them with stop and turn lights. There are no other green lights on the vehicle. There is a slight chance the amber lens color may be confused with hazard lights. However, this is not a hindrance as the [deceleration] and hazard lights heighten other drivers' awareness of the bus.

These lights were requested by our customers to help attract attention to the buses in the stated situations. Since the requirement that “all other lamps shall be wired to be steady burning” applies to NovaBUS as an [original equipment manufacturer] but not to our customers, NovaBus believes these lights would not be changed to be steady burning if a recall process was executed.

NovaBUS no longer offers these options and is now compliant with the applicable FMVSSs.

Interested persons are invited to submit written data, views, and arguments on the application described above. Comments should refer to the docket number and be submitted to: U.S. Department of Transportation, Docket Management, Room PL-401, 400 Seventh Street, SW, Washington, DC, 20590. It is requested that two copies be submitted.

All comments received before the close of business on the closing date indicated below will be considered. The application and supporting materials, and all comments received after the closing date, will also be filed and will be considered to the extent possible. When the application is granted or denied, the notice will be published in the Federal Register pursuant to the authority indicated below. Comment closing date: September 6, 2001.

(49 U.S.C. 301118, 301120; delegations of authority at 49 CFR 1.50 and 501.8)
Issued on: August 1, 2001.
Stephen R. Kratzke,
Associate Administrator for Safety Performance Standards.

[FR Doc. 01-19744 Filed 8-6-01; 8:45 am]

BILLING CODE 4910-59-P